DEPARTMENT OF THE INTERIOR

Bureau of Land Management

[NV-920-1990-NJ]

Notice of Availability of the Programmatic Environmental Assessment for Selected Actions Taken for Mining Claim Use and Occupancy in Nevada, and the Finding of No Significant Impact

AGENCY: Bureau of Land Management, Interior.

ACTION: Notice of availability.

SUMMARY: In accordance with the National Environmental Policy Act of 1969 (NEPA), and Use and Occupancy Under the Mining Laws regulations (43 CFR 3715), the Bureau of Land Management has prepared an environmental assessment (EA) that evaluates the impacts of typical mining claim and/or mill site occupancies. This EA describes and analyzes the proposed action, consisting of six typical occupancy scenarios, and the no occupancy option. The actions analyzed in this EA involve operations that disturb 5 acres or less. This notice is intended to inform the public of the analysis of impacts presented in the EA and the performance measures developed for the proposed action.

DATES: Copies of the EA and the Finding of No Significant Impact (FONSI) will be provided to any person or agency, or to other interested parties, upon written request.

ADDRESSES: Send requests for the EA to: Bureau of Land Management, Nevada State Office, P.O. Box 12000, Reno, NV 89520-0006.

FOR FURTHER INFORMATION CONTACT: Bob Gibson, Geologist, Nevada State Office. Telephone: (775) 861-6564.

Robert V. Abbey,
State Director.

[FR Doc. 00-10974 Filed 5-2-00; 8:45 am]

BILLING CODE 4310-HC-M